DEPARTMENT OF HEALTH AND HUMAN SERVICES

Centers for Disease Control and Prevention

[30Day-14-13TY]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

National Survey of Community-Based Policy and Environmental Supports for Healthy Eating and Active Living—New—National Center for Chronic Disease Prevention and Health Promotion (NCCDPHP), Centers for Disease Control and Prevention (CDC).

Background and Brief Description

Currently, little is known about the environmental and policy supports for healthful diets and regular physical activity within a community and how these supports are changing across time. As a result, CDC plans to conduct a survey to address this gap in knowledge. The survey will be administered to a nationally representative sample of 4,484 communities. Respondents will be city planners/managers in these communities. We estimate a response rate of 70%, resulting in 3,139 completed surveys.

Information will be collected about the following topics: community-wide planning efforts for healthy eating and active living, the built environment and policies that support physical activity, and policies and practices that support access to healthy food and healthy eating. Data will be primarily collected using a secure, Web-based survey data collection system. A hardcopy response option will be available for respondents who prefer to complete a paper form. Follow-up will be conducted by telephone and mail reminders to encourage completion of the survey.

The proposed survey content and data collection procedures incorporate lessons learned during an initial pilot study (Pilot Study of Community-Based Surveillance and Supports for Healthy Eating/Active Living, OMB No. 0920-0934, exp. 5/31/2013). In order to achieve the target number of completed surveys, we estimate that we will need to conduct an average of five follow-up calls with each respondent.

Assessment of policy and environmental supports for healthful eating and physical activity will serve multiple uses. First, the collected data will describe the characteristics of communities that have specific policy and practice supports favorable for healthy diets and regular physical activity. Second, the collected data will help identify the extent to which communities implement strategies consistent with current national recommendations. Third, local agencies may use the data collected to consider how they compare nationally or with other municipalities of a similar geography, population size, or urban status. Fourth, this information can help guide communities in their local decision-making efforts on feasible policy and environmental interventions or solutions for healthy behaviors or choices. Finally, information collected through this survey may serve as a baseline to track community-level policies and practices across time.

OMB approval is requested for one year. Participation is voluntary and there are no costs to respondents other than their time. The total estimated annualized burden hours are 3,438.

Estimated Annualized Burden Hours
Type of respondent | Form name | Number of respondents | Number of responses per respondent | Average burden per response (in hours)
City or Town Planner or Manager | National Survey of Community-Based Policy and Environmental Supports for Healthy Eating and Active Living | 3,139 | 1 | 30/60
| Telephone Non-response Follow-up Contact Script | 4,484 | 5 | 5/60

Leroy A. Richardson,
Chief, Information Collection Review Office, Office of Scientific Integrity, Office of the Associate Director for Science, Office of the Director, Centers for Disease Control and Prevention.

[FR Doc. 2013-28297 Filed 11-25-13; 8:45 am]

BILLING CODE 4163-18-P